DEPARTMENT OF VETERANS AFFAIRS

[OMB Control No. 2900-New (Supplier)]

Proposed Information Collection (Supplier Perception Survey) Activity; Comment Request

AGENCY: Office of Acquisition, Logistics and Construction, Department of Veterans Affairs.

ACTION: Notice.

SUMMARY: The Office of Acquisition, Logistics and Construction (OALC), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on the information needed to transform the acquisition and logistics operation.

DATES: Written comments and recommendations on the proposed collection of information should be received on or before January 4, 2010.

ADDRESSES: Submit written comments on the collection of information through the Federal Docket Management System (FDMS) at http://www.Regulations.gov; or to Dan Coakley, Acquisition and Logistics (001AL-P2), Department of Veterans Affairs, 810 Vermont Avenue, NW., Washington, DC 20420; or e-mail: daniel.coakley@va.gov. Please refer to “OMB Control No. 2900-New (Supplier)” in any correspondence. During the comment period, comments may be viewed online through FDMS.

FOR FURTHER INFORMATION CONTACT: Dan Coakley at (202) 461-6904, FAX 202-273-6225

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OALC invites comments on: (1) Whether the proposed collection of information is necessary for the proper performance of OALC's functions, including whether the information will have practical utility; (2) the accuracy of OALC's estimate of the burden of the proposed collection of information; (3) ways to enhance the quality, utility, and clarity of the information to be collected; and (4) ways to minimize the burden of the collection of information on respondents, including through the use of automated collection techniques or the use of other forms of information technology.

Title: Department of Veterans Affairs Supplier Perception Survey.

OMB Control Number: 2900-New (Supplier).

Type of Review: New collection.

Abstract: The data collected will be used to improve the quality of services delivered to VA customers and to help develop key performance indicators in acquisition and logistics operations across VA enterprise.

Affected Public: Business or other for-profit and Not-for-profit institutions.

Estimated Annual Burden: 48,600 hours.

Estimated Average Burden per Respondent: 32 minutes.

Frequency of Response: On occasion.

Estimated Number of Respondents: 90,240.

Dated: October 29, 2009.
By direction of the Secretary.
Denise McLamb,
Program Analyst, Records Management Service.

[FR Doc. E9-26460 Filed 11-3-09; 8:45 am]

BILLING CODE P